DEPARTMENT OF LABOR

Occupational Safety and Health Administration

29 CFR Parts 1910, 1915, and 1926

[Docket No. OSHA-H022K-2006-0062, (formerly OSHA Docket No. H022K]

RIN 1218-AC20

Hazard Communication; Meetings Notice

AGENCY: Occupational Safety and Health Administration (OSHA), Department of Labor.

ACTION: Proposed rule; notification of one hearing, and one hearing cancellation.

SUMMARY: On December 29, 2009, OSHA announced that it would hold informal public hearings on its proposal to revise the Hazard Communication Standard in Washington, DC; Pittsburgh, PA; and Los Angeles, CA (74 FR 68756). OSHA will hold the Pittsburgh hearing at the Marriott Pittsburgh City Center on March 31, 2010. OSHA is canceling the Los Angeles, CA, hearing.

DATES: The informal public hearing will begin at 9:30 a.m., local time, on March 31, 2010, in Pittsburgh, PA.

ADDRESSES: Informal public hearing. The Pittsburgh, PA, hearing will be held in the Marriott Pittsburgh City Center, located at 112 Washington Place, Pittsburgh, Pennsylvania 15219.

Docket: To read or download comments, notices of intention to appear, and other material in the docket, go to Docket No. OSHA-H022K-2006-0062 at http://www.regulations.gov. All documents in the docket are listed in the http://www.regulations.gov index; however, some information (e.g., copyrighted material) is not publicly available to read or download through the Web site. All submissions and other material in the docket are available for public inspection and copying in the OSHA Docket Office. For information on reading or downloading materials in the docket and obtaining materials not available through the Web site, please contact the OSHA Docket Office, U.S. Department of Labor, Room N-2625, 200 Constitution Avenue, NW., Washington, DC 20210; telephone (202) 693-2350 (TTY number (877) 889-5627).

Electronic copies of this Federal Register notice are available at http://www.regulations.gov. This notice, as well as news releases and other relevant information, also are available at OSHA's Web page at http://www.osha.gov.

FOR FURTHER INFORMATION CONTACT: Press inquiries: Jennifer Ashley, OSHA, Office of Communications, Room N-3647, U.S. Department of Labor, 200 Constitution Avenue, NW., Washington, DC 20210; telephone (202) 693-1999.

Technical information: Maureen Ruskin, OSHA, Office of Chemical Hazards-Metals, Room N-3718, U.S. Department of Labor, 200 Constitution Avenue, NW., Washington, DC 20210; telephone (202) 693-1950.

Hearings: Ms. Veneta Chatmon, OSHA, Office of Communications, Room N-3647; 200 Constitution Avenue, NW., Washington, DC 20210; telephone (202) 693-1999; e-mail chatmon.veneta@dol.gov.

SUPPLEMENTARY INFORMATION: On September 30, 2009, OSHA published a proposed rule to revise the Hazard Communication Standard (HCS) to conform with the United Nations' (UN) Globally Harmonized System of Classification and Labelling of Chemicals (GHS) (74 FR 50280). OSHA published a correction notice for the Notice of Proposed Rulemaking (NPRM) on November 5, 2009 (74 FR 57278). The deadline for submitting written comments and hearing requests was December 29, 2009. On December 29, 2009, OSHA published a notice announcing that it would hold informal public hearings in Washington, DC; Pittsburgh, PA; and Los Angeles, CA (74 FR 68756). The deadline for filing a notice of intention to appear to present testimony or question witnesses at these hearings was January 18, 2010, and the deadline for requesting more than 10 minutes to present testimony or to submit documentary evidence at the hearing was February 1, 2010.

OSHA received numerous requests to appear at the Washington, DC, hearing and a number for the Pittsburgh, PA hearing. However, OSHA received only a few requests to appear at the Los Angeles location, and has accordingly decided to cancel that hearing. Persons who filed timely notices for the Los Angeles hearing have been given the opportunity to appear at either the Washington, DC, or Pittsburgh locations.

For information about the procedures that will be followed at these hearings, please see the notice of hearing published at 74 FR 68756 and the prehearing guidelines issued by Administrative Law Judge Stephen Purcell, which have been posted in the docket and may be accessed as noted above.

Participants who need projectors and other special equipment for their testimony must contact Ms. Veneta Chatmon at OSHA's Office of Communications, telephone (202) 693-1999, no later than one week before the hearing begins.

Authority and Signature

David Michaels, PHD MPH, Assistant Secretary of Labor for Occupational Safety and Health, directed the preparation of this notice under the authority granted by section 6(b) of the Occupational Safety and Health Act of 1970 (29 U.S.C. 655(b)), Secretary of Labor's Order 5-2007 (72 FR 31160), and 29 CFR part 1911.

Signed at Washington, DC, on this 11th day of March, 2010.
David Michaels,
Assistant Secretary of Labor for Occupational Safety and Health.

[FR Doc. 2010-5790 Filed 3-16-10; 8:45 am]

BILLING CODE 4510-26-P